DEPARTMENT OF ENERGY

Federal Energy Regulatory Commission

[Docket No. EL13-89-000]

Hillman Power Company, L.L.C.; Notice of Initiation of Proceeding And Refund Effective Date

On September 30, 2013, the Commission issued an order that initiated a proceeding in Docket No. EL13-89-000, pursuant to section 206 of the Federal Power Act (FPA), 16 U.S.C. 824e (2006), to determine the justness and reasonableness of the proposed revenue requirement of the Hillman Power Company, L.L.C. Hillman Power Company, L.L.C., 144 FERC ¶ 61,245 (2013).

The refund effective date in Docket No. EL13-89-000, established pursuant to section 206(b) of the FPA, will be the date of publication of this notice in the Federal Register.

Dated: September 30, 2013.
Nathaniel J. Davis, Sr.,
Deputy Secretary.

[FR Doc. 2013-24368 Filed 10-4-13; 8:45 am]

BILLING CODE 6717-01-P